DEPARTMENT OF ENERGY

Federal Energy Regulatory Commission

Sunshine Act; Notice of Meeting, Notice of Vote, Explanation of Action Closing Meeting and List of Persons To Attend

April 19, 2007.

The following notice of meeting is published pursuant to Section 3(a) of the Government in the Sunshine Act (Pub. L. No. 94-409), 5 U.S.C. 552b:

Agency Holding Meeting: Federal Energy Regulatory Commission.

Date and Time: April 26, 2007, 9:30 a.m.

Place: Room 2C, Commission Meeting Room, 888 First Street, NE., Washington, DC 20426.

Status: Closed.

Matters to be Considered: Non-Public, Investigations and Inquiries, Enforcement Related Matters.

For Further Information Contact: Kimberly D. Bose, Secretary, Telephone (202) 502-8400.

Chairman Kelliher and Commissioners Kelly, Spitzer, Moeller, and Wellinghoff voted to hold a closed meeting on April 26, 2007. The certification of the General Counsel explaining the action closing the meeting is available for public inspection in the Commission's Public Reference Room at 888 First Street, NE., Washington, DC 20426.

The Chairman and the Commissioners, their assistants, the Commission's Secretary, the General Counsel and members of his staff, and a stenographer are expected to attend the meeting. Other staff members from the Commission's program offices who will advise the Commissioners in the matters discussed will also be present.

Kimberly D. Bose,
Secretary.

[FR Doc. E7-7958 Filed 4-25-07; 8:45 am]

BILLING CODE 6717-01-P